DEPARTMENT OF TRANSPORTATION

Surface Transportation Board

[STB Docket No. FD 35523]

CSX Transportation, Inc.—Joint Use—Louisville & Indiana Railroad Company, Inc.

AGENCY: Surface Transportation Board, DOT.

ACTION: Issuance of Supplemental Environmental Assessment; request for comments.

SUMMARY: On July 2, 2013, Applicants, CSX Transportation, Inc. (CSXT) and Louisville & Indiana Railroad Company, Inc. (L&I), filed an application with the Surface Transportation Board (Board) pursuant to 49 United States Code (U.S.C.) 11323 and 49 Code of Federal Regulations (CFR) part 1180. Applicants seek Board authority for CSXT to acquire from and jointly use with the L&I a perpetual, non-exclusive railroad operating easement over L&I's rail line. The subject L&I rail line extends from a connection with CSXT in Indianapolis, Indiana at milepost (MP) 4.0, to a connection with CSXT in Louisville, Kentucky at MP 110.5 (L&I Line). The joint use and easement acquisition are referred to as the Proposed Transaction. Both CSXT and L&I would continue to use the L&I Line. CSXT would pay L&I $10 million dollars for the operating easement and would spend between $70 and $90 million to improve the rail line to allow CSXT to move longer, faster, and heavier trains.

Currently, the L&I Line carries two to seven trains per day on the various sections of the line. Under the Proposed Transaction, CSXT would reroute some of its trains from current CSXT routes in the Indiana-Ohio-Kentucky region to a new route that includes the L&I Line in Indiana. The rerouting of these CSXT trains would add 13 to 15 trains per day over the various sections of the L&I Line.

In August 2013, the Board's Office of Environmental Analysis (OEA) issued a Draft Environmental Assessment (EA) that focused on the potential impacts of the proposed operational changes on the L&I Line, and also considered potential construction impacts associated with the extension of several rail line sidings and replacement of the Flatrock River Bridge, all on the L&I Line. During the public review and comment period on the Draft EA, OEA received comments that raised environmental issues that it had not addressed in the document. As a result, OEA decided to prepare a Supplemental EA focusing on the new environmental issues.

Today, OEA has issued the Supplemental EA, which is available on the Board's Web site, www.stb.dot.gov, by clicking “Decisions” under “Quick Links,” and locating the document under the service date of 10/31/2014. The Supplemental EA analyzes the potential operational impacts of CSXT moving additional trains on the following three CSXT rail lines: Indianapolis Terminal Subdivision—Louisville Secondary Branch, Indianapolis Line Subdivision, and Louisville Connection. The Supplemental EA also quantifies potential impacts to wetlands, floodplains, and forested areas that could result from extending rail line sidings and replacing the Flatrock River Bridge on the L&I Line, and includes a review of potential changes in wildlife strikes that could occur under the Proposed Transaction.

Additionally, the Indiana State Historic Preservation Office (SHPO) and OEA concur that (1) replacement of the Flatrock River Bridge would constitute an adverse effect on a historic property considered eligible for inclusion on the National Register of Historic Places; (2) avoidance of the adverse effect is not feasible if the L&I Line is to safely accommodate the modern rail traffic under the Proposed Transaction; (3) there appears to be no feasible alternative to bridge replacement and that documentation prior to removal would be an appropriate mitigation measure; (4) documentation completed by Applicants meets SHPO's standards; and (5) a Memorandum of Agreement (MOA) would memorialize the mitigation measures (i.e., documentation) and resolve adverse effects of the undertaking. OEA prepared a draft MOA that SHPO indicates it would sign as currently drafted. The draft MOA is located in Appendix I of the Supplemental EA and interested parties are invited to comment.

DATES: Interested parties are invited to submit written comments on the Supplemental EA by December 1, 2014 to assure full consideration. If you submitted comments on the Draft EA, you do not need to resubmit those comments. OEA will consider and respond to comments received on both the Draft EA and on today's Supplemental EA in the Final EA. The Board will issue a final decision on the proposed transaction after issuance of the Final EA.

Filing Environmental Comments: Comments submitted by mail should be addressed to: Dave Navecky, Surface Transportation Board, 395 E Street SW., Washington, DC 20423-0001, Attention: Environmental Filing, Docket No. FD 35523. Comments may also be submitted electronically on the Board's Web site, www.stb.dot.gov, by clicking on the “E-FILING” link on the home page and then selecting “Environmental Comments.” Please refer to Docket No. FD 35523 in all correspondence, including e-filings, addressed to the Board.

FOR FURTHER INFORMATION CONTACT: Dave Navecky at the address above or by phone at 202-245-0294. Assistance for the hearing impaired is available through the Federal Information Relay Service (FIRS) at 1-800-877-8339.

By the Board, Victoria Rutson, Director, Office of Environmental Analysis.
Brendetta S. Jones,
Clearance Clerk.

[FR Doc. 2014-25924 Filed 10-30-14; 8:45 am]

BILLING CODE 4915-01-P